SECURITIES AND EXCHANGE COMMISSION

Submission for OMB Review; Comment Request; Correction

AGENCY: Securities and Exchange Commission.

ACTION: Notice; correction.

Extension: Rule 17f-1(b), OMB Control No. 3235-0032, SEC File No. 270-28.

SUMMARY: The Securities and Exchange Commission published a document in the Federal Register of August 16, 2012, concerning its request for the Office of Management and Budget's (“OMB”) approval of an extension of the previously approved collection of information provided for in Rule 17f-1(b) (17 CFR 240.17f-1(b)) under the Securities Exchange Act of 1934 (15 U.S.C. 78a et seq.). The document contained an incorrect OMB Control Number.

FOR FURTHER INFORMATION CONTACT: Remi Pavlik-Simon, Securities and Exchange Commission, 6432 General Green Way, Alexandria, VA 22312 or send an email to: PRA_Mailbox@sec.gov.

Correction

In the Federal Register issue of Thursday, August 16, 2012, in FR Doc. 2012-20098, on page 49475, in the second line from the bottom of the second column, correct the OMB Control No. to read as noted above.

Dated: August 20, 2012.
Elizabeth M. Murphy,
Secretary.

[FR Doc. 2012-20758 Filed 8-22-12; 8:45 am]

BILLING CODE 8011-01-P